DEPARTMENT OF HOMELAND SECURITY

Coast Guard

33 CFR Part 117

[Docket No. USCG-2018-0284]

Drawbridge Operation Regulation; Willamette River, Portland, OR

AGENCY: Coast Guard, DHS.

ACTION: Notice of deviation from drawbridge regulation.

SUMMARY: The Coast Guard has issued a temporary deviation from the operating schedule that governs the upper deck of the Steel Bridge across the Willamette River, mile 12.1, in Portland, OR. The deviation is necessary to support multiple events. This deviation allows the lower lift span of the bridge to remain in the closed-to-navigation position.

DATES: This deviation is effective from 9:30 a.m. on May 6, 2018 to 11:59 p.m. on June 23, 2018.

ADDRESSES: The docket for this deviation, USCG-2018-0284, is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Union Pacific Railroad Company (UPRR) owns and operates the Steel Bridge across the Willamette River, at mile 12.1, in Portland, OR. UPRR requested a temporary deviation from the operating schedule for the Steel Bridge upper lift span. The deviation is necessary to accommodate multiple community events. This deviation authorizes UPRR to operate the Steel Bridge upper lift span as follows:

Time/date start | Time/date end | Action
8 a.m./May 6, 2018 | 9:30 a.m./May 6, 2018 | Upper lift closed.
7 p.m./June 2, 2018 | 11:59 p.m./June 2, 2018 | Upper lift closed.
7 a.m./June 9, 2018 | 1 p.m./June 9, 2018 | Upper lift closed.
4 a.m./June 23, 2018 | 11:59 p.m./June 23, 2018 | Upper lift closed.

The Steel Bridge is a double-deck lift bridge, and the lower lift span operates independent of the upper lift span. To facilitate this deviation, the upper deck will remain in the closed-to-navigation position. When the lower deck is in the closed-to-navigation position, the bridge provides 26 feet of vertical clearance above Columbia River Datum 0.0; and in open-to-navigation position, the vertical clearance is 71 feet above Columbia River Datum 0.0. The lower lift deck of the Steel Bridge operates in accordance with 33 CFR 117.5. The upper lift deck of the Steel Bridge operates in accordance with 33 CFR 117.897(c)(3)(ii), and at the end of this deviation period, the upper deck of the Steel Bridge will resume operating in accordance with 33 CFR 117.897(c)(3)(ii).

Waterway usage on this part of the Willamette River includes vessels ranging from commercial tug and barge to small pleasure craft. Vessels able to pass through the subject bridge with the upper deck in the closed-to-navigation position may do so at any time. The lower lift of the Steel Bridge will be able to open for emergencies, and there is no immediate alternate route for vessels to pass. The Coast Guard requested objections be submitted to this deviation in the Local Notice to Mariners. We have not received any objections to this temporary deviation from the operating schedule. The Coast Guard will also inform the users of the waterway through our Local and Broadcast Notices to Mariners of the change in operating schedule for the subject bridge so that vessel operators can arrange their transits to minimize any impact caused by the temporary deviation.

In accordance with 33 CFR 117.35(e), the drawbridge must return to its regular operating schedule immediately at the end of the designated time period. This deviation from the operating regulations is authorized under 33 CFR 117.35.

Dated: April 10, 2018.
Steven M. Fischer,
Bridge Administrator, Thirteenth Coast Guard District.

[FR Doc. 2018-07955 Filed 4-16-18; 8:45 am]

BILLING CODE 9110-04-P